DEPARTMENT OF AGRICULTURE

Office of Tribal Relations

Council for Native American Farming and Ranching

AGENCY: Office of Tribal Relations, USDA.

ACTION: Notice of public meeting.

SUMMARY: This notice announces a forthcoming meeting of the Council for Native American Farming and Ranching, a public advisory committee of the Office of Tribal Relations. Notice of the meetings are provided in accordance with section 10(a)(2) of the Federal Advisory Committee Act, as amended, (5 U.S.C. Appendix 2). This will be the third meeting held during fiscal year 2016 and will consist of, but not be limited to: Hearing public comments, update of USDA programs and activities, and discussion of committee priorities. This meeting will be open to the public.

DATES: The meeting will be held on July 27-28, 2016. The meeting will be open to the public on both days with time set aside for public comment on July 27 at approximately 1:30 p.m.-4:00 p.m. The Office of Tribal Relations (OTR) will make the agenda available to the public via the OTR Web site http://www.usda.gov.tribalrelations no later than 10 business days before the meeting and at the meeting.

ADDRESSES: The meeting will be held at the Shoshone Bannock Events Center, 777 Bannock Trail, Fort Hall, ID 83202, in the Chief Taghee A Room.

FOR FURTHER INFORMATION CONTACT: Questions or written comments may be submitted to Amanda Burley, Designated Federal Officer, USDA/Office of Tribal Relations, 1400 Independence Ave. SW., Whitten Bldg. 501-A, Washington, DC 20250; by fax: (202) 720-1058; or by email: tribal.relations@osec.usda.gov.

SUPPLEMENTARY INFORMATION: In accordance with the provisions of the Federal Advisory Committee Act (FACA), as amended (5 U.S.C. App. 2), USDA established an advisory council for Native American Farmers and Ranchers (CNAFR). The CNAFR is a discretionary advisory committee established under the authority of the Secretary of Agriculture, in furtherance of the Keepseagle v. Vilsack settlement agreement that was granted final approval by the District Court for the District of Columbia on April 28, 2011.

The CNAFR will operate under the provisions of the FACA and report to the Secretary of Agriculture. The purpose of the CNAFR is (1) to advise the Secretary of Agriculture on issues related to the participation of Native American farmers and ranchers in USDA loan and grant programs; (2) to transmit recommendations concerning any changes to USDA regulations or internal guidance or other measures that would eliminate barriers to program participation for Native American farmers and ranchers; (3) to examine methods of maximizing the number of new farming and ranching opportunities created by USDA loan and grant programs through enhanced extension and financial literacy services; (4) to examine the methods of encouraging intergovernmental cooperation to mitigate the effects of land tenure and probate issues on the delivery of USDA programs; (5) to evaluate other methods of creating new farming or ranching opportunities for Native American producers; and (6) to address other related issues as deemed appropriate.

Interested persons may present views, orally or in writing, on issues relating to the agenda topics before the CNAFR. Written submissions may be submitted to the Designated Federal Officer on or before July 22, 2016. Oral presentations from the public will be heard approximately 1:30 p.m.-4:00 p.m. on July 27, 2016. Those individuals interested in making formal oral presentations should notify the Designated Federal Officer and submit a brief statement of the general nature of the issues they wish to present and the names and addresses of proposed participants by July 22, 2016. All oral presentations will be given three (3) to five (5) minutes depending on the number of participants.

The OTR will also make the agenda available to the public via the OTR Web site http://www.usda.gov/tribalrelations no later than 10 business days before the meeting and at the meeting. The minutes from the meeting will be posted on the OTR Web site. OTR welcomes the attendance of the public at the CNAFR meetings and will make every effort to accommodate persons with physical disabilities or special needs. If you require special accommodations due to a disability, please contact Amanda Burley at least 10 business days in advance of the meeting.

Dated: July 5, 2016.
Leslie A. Wheelock,
Director, Office of Tribal Relations.

[FR Doc. 2016-16320 Filed 7-8-16; 8:45 am]

BILLING CODE 3410-05-P